NATIONAL SCIENCE FOUNDATION

Sunshine Act Meeting; National Science Board

The National Science Board's Executive Committee, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Friday, January 31, 2014, from 1 p.m. to 2 p.m. EDT.

PLACE: This meeting will be held by teleconference at the National Science Board Office, National Science Foundation, 4201 Wilson Blvd., Arlington, VA 22230. A public listening line will be available. Members of the public must contact the Board Office [call 703-292-7000 or send an email message to nationalsciencebrd@nsf.gov] at least 24 hours prior to the teleconference for the public listening number.

STATUS: Open.

MATTERS TO BE CONSIDERED: (1) Chairman's opening remarks; and (2) Discussion of agenda for February 2014 meeting.

CONTACT PERSON FOR MORE INFORMATION: Please refer to the National Science Board Web site www.nsf.gov/nsb for additional information. Meeting information and updates (time, place, subject matter or status of meeting) may be found at http://www.nsf.gov/nsb/notices/. Point of contact for this meeting is: Peter Arzberger, 4201 Wilson Blvd., Arlington, VA 22230. Telephone: (703) 292-8000.

Ann Bushmiller,
Senior Counsel to the National Science Board.

[FR Doc. 2014-01994 Filed 1-28-14; 11:15 am]

BILLING CODE 7555-01-P